DEPARTMENT OF THE INTERIOR

National Park Service

National Register of Historic Places; Notification of Pending Nominations and Related Actions

Nominations for the following properties being considered for listing or related actions in the National Register were received by the National Park Service before November 11, 2006.

Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by December 13, 2006.

John W. Roberts,
Acting Chief, National Register/National Historic Landmarks Program.

CALIFORNIA

Stanislaus County

Walton, Dr. Robert and Mary, House, 417 Hogue Dr., Modesto, 06001133

MISSOURI

Phelps County

Community Theater, 117 First St., Newburg, 06001134

St. Louis County

Maplewood Commercial Historic District at Manchester and Sutton, Roughly bounded by Manchester, Marietta, Marshall and Sutton, Maplewood, 06001135

MONTANA

Lewis and Clark County

Montana State Fairgrounds Racetrack, 98 W. Custer Ave., Helena, 06001136

NEW YORK

Broome County

Conklin Town Hall, 1271 Conklin Rd., Conklin, 06001146

Essex County

Hurricane Mountain Fire Observation Station, (Fire Observation Stations of New York State Forest Preserve MPS), Hurricane Mountain Summit, Keene, 06001145

Whiteface Veterans Memorial Highway Complex, NY 431, New York, 06001147

Nassau County

North Hempstead Town Hall, 220 Plandome Rd., Manhasset, 06001143

Rockland County

Sloat, Jacob, House, 15 Liberty Rock Rd., Village of Sloatsburg, 06001144

NORTH CAROLINA

Catawba County

Lyerly Full Fashioned Mill, (Hickory MRA), 56 Third St., SE, Hickory, 06001137

Craven County

Barber, J.T., School, 1700 Cobb St., New Bern, 06001139

Davidson County

Grace Episcopal Church, 419 S. Main St., Lexington, 06001138

Henderson County

Main Street Historic District (Boundary Increase), (Hendersonville MPS), Roughly N. Main St., Second Ave. W., W. Allen St., N. Washington and First Ave. E., Hendersonville, 06001140

Mecklenburg County

Seifart, Fritz, House, 421 Hemptead Place, Charlotte, 06001141

Rutherford County

West Main Street Historic District, 121 Cool Springs Dr., 343-499 W. Maine St., 121 Memorial Dr., Forest City, 06001142

PENNSYLVANIA

Bucks County

Chalfont Historic District, Roughly bounded by Chestnut St., Park Ave., Main St., Butler Ave., and Sunset Ave., Chalfont, 06001148

Sheard, Levi, Mill, 8308 Covered Bridge Rd., East Rockhill Township, 06001149

Montgomery County

Whitpain Public School, 799 Skippack Pike, Blue Bell, 06001150

RHODE ISLAND

Kent County

Greenwich Mills, 42 Ladd St., Warwick, 06001151

TEXAS

Gray County

McLean Commercial Historic District, (Route 66 in Texas MPS), Roughly bounded by Railroad, Rowe, Second and Gray Sts., McLean, 06001153

Presidio County

Fort D.A. Russell Historic District, Roughly bounded by Ridge, El Paso, Kelly Sts, U.S. 67 and FM 2810, Marfa, 06001152

WISCONSIN

Burnett County

Daniels Town Hall, 9602 WI 70, Daniels, 06001154

Vernon County

Apfel, George, Round Barn, 11314 Cty Hwy P, Clinton, 06001155

A request for REMOVAL has been made for the following resource:

PENNSYLVANIA

Monroe County

Henryville House, Jct. of PA 191 and 715, Henryville, 86003572

[FR Doc. E6-20037 Filed 11-27-06; 8:45 am]

BILLING CODE 4312-51-P